DEPARTMENT OF STATE

[Public Notice: 9190]

Privacy Act; System of Records: Records Maintained by the Office of Civil Rights, State-09

SUMMARY: Notice is hereby given that the Department of State proposes to amend an existing system of records, Records Maintained by the Office of Civil Rights, State-09, pursuant to the provisions of the Privacy Act of 1974, as amended (5 U.S.C. 552a) and Office of Management and Budget Circular No. A-130, Appendix I.

DATES: This system of records will be effective on August 24, 2015, unless we receive comments that will result in a contrary determination.

ADDRESSES: Any persons interested in commenting on the amended system of records may do so by submitting comments by writing to the Director; Office of Information Programs and Services, A/GIS/IPS; Department of State, SA-2; 515 22nd Street; Washington, DC 20522-8001.

FOR FURTHER INFORMATION CONTACT: John Hackett, Acting Director; Office of Information Programs and Services, A/GIS/IPS; Department of State, SA-2; 515 22nd Street NW; Washington, DC 20522-8100, or at Privacy@state.gov.

SUPPLEMENTARY INFORMATION: The Department of State proposes that the current system amend its name from “Equal Employment Opportunity Records” (previously published at 75 FR 70342) to “Records Maintained by the Office of Civil Rights”. The purpose of this system is to contain records for the investigation, processing and resolution of informal and formal complaints of discrimination filed against the Department of State in accordance with 29 CFR part 1614 and the Department's internal procedures for addressing Equal Employment Opportunity (EEO) complaints; for the investigation, processing and resolution of complaints of discrimination under 42 U.S.C. 2000d; and for the investigation, processing and resolution of complaints under 20 U.S.C. 1681, 29 U.S.C. 794 and 794d, 42 U.S.C. 6101, and 36 CFR chapter XI.

The proposed system will include modifications to the following sections: Title, Categories of Individuals Covered by the System, Authority for Maintenance of the System, Purposes, Routine Uses, Safeguards, and System Exempted From Certain Provisions of the Act as well as other administrative updates.

The Department's report was filed with the Office of Management and Budget. The amended system description, “Records Maintained by the Office of Civil Rights, State-09,” will read as set forth below.

Joyce A. Barr,
Assistant Secretary for Administration, U.S. Department of State.

STATE-09

SYSTEM NAME:

Records Maintained by the Office of Civil Rights.

SECURITY CLASSIFICATION:

Unclassified.

SYSTEM LOCATION:

Department of State, 2201 C Street NW., Washington, DC 20520.

CATEGORIES OF INDIVIDUALS COVERED BY THE SYSTEM:

Employees and applicants for employment who have filed formal or informal complaints that allege discrimination; employees and members of the public who have filed a complaint under Title VI of the Civil Rights Act of 1964 (42 U.S.C. 2000d et seq.), Title IX of the Educational Amendments of 1972 as amended (20 U.S.C. 1681), Title VII of the Civil Rights Act of 1964 (42 U.S.C. 2000e), Sections 504 or 508 of the Rehabilitation Act of 1973 (29 U.S.C. 794 and 794d), the Equal Pay Act of 1963 (29 U.S.C. 206(d)), the Age Discrimination in Employment Act of 1967 (29 U.S.C. 621), the Genetic Information Nondiscrimination Act of 2008 (42 U.S.C. chapter 21F), Executive Order 11478, as amended, or the Age Discrimination Act of 1975 (42 U.S.C. chapter 76).

CATEGORIES OF RECORDS IN THE SYSTEM:

Investigative reports; employment applications; biographic information to include race, color, national origin, sex, sexual orientation, religion, age, disability, genetic information; and employment histories.

AUTHORITY FOR MAINTENANCE OF THE SYSTEM:

20 U.S.C. 1681; 29 U.S.C. 794 and 794d; 42 U.S.C. 2000d et seq.; 29 U.S.C. 206(d); 42 U.S.C. 2000e et seq.; Executive Order 11478, as amended; 42 U.S.C. chapter 21F; 29 U.S.C. 621; and 42 U.S.C. chapter 76.

PURPOSE(S):

For the investigation, information collected is used for the processing and resolution of informal and formal complaints of discrimination filed against the Department of State in accordance with 29 CFR part 1614 and the Department's internal procedures for addressing Equal Employment Opportunity (EEO) complaints; and for the investigation, processing and resolution of complaints of discrimination under 42 U.S.C. 2000d and complaints under 20 U.S.C. 1681, 29 U.S.C. 794 and 794d, 42 U.S.C. 6101, 29 U.S.C. 621, and 36 CFR chapter XI.

ROUTINE USES OF RECORDS MAINTAINED IN THE SYSTEM, INCLUDING CATEGORIES OF USERS AND PURPOSES OF SUCH USES:

Records from this system will be disclosed to the U.S. Equal Employment Opportunity Commission and other federal agencies for purposes of investigating, processing, adjudicating, resolving and litigating complaints involving more than one agency, or in situations where the Department of State has requested that another federal agency provide investigative support for a complaint.

The Department of State periodically publishes in the Federal Register its standard routine uses that apply to all of its Privacy Act systems of records. These notices appear in the form of a Prefatory Statement. These standard routine uses apply to the Records Maintained by the Office of Civil Rights, State-09.

DISCLOSURE TO CONSUMER REPORTING AGENCIES:

None.

POLICIES AND PRACTICES FOR STORING, RETRIEVING, ACCESSING, RETAINING, AND DISPOSING OF RECORDS IN THE SYSTEM:

STORAGE:

Hard copy and electronic.

RETRIEVABILITY:

By individual name and Employee Identification Number (EID).

SAFEGUARDS:

All users are given cyber security awareness training which covers the procedures for handling Sensitive but Unclassified information, including personally identifiable information (PII). Annual refresher training is mandatory. In addition, all Foreign Service and Civil Service employees and those Locally Employed Staff who handle PII are required to take the Foreign Service Institute distance learning course instructing employees on privacy and security requirements, including the rules of behavior for handling PII and the potential consequences if it is handled improperly. Before being granted access to Records Maintained by the Office of Civil Rights, a user must first be granted access to the Department of State computer system.

Remote access to the Department of State network from non-Department owned systems is authorized only to unclassified systems and only through a Department-approved access program. Remote access to the network is configured with the Office of Management and Budget Memorandum M-07-16 security requirements, which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage. When it is determined that a user no longer needs access, the user account is disabled.

RETENTION AND DISPOSAL:

Records are retired or destroyed in accordance with published records disposition schedules of the Department of State and as approved by the National Archives and Records Administration (NARA). More specific information may be obtained by writing the Director, Office of Information Programs and Services, Department of State, SA-2, 515 22nd Street NW., Washington, DC 20522-8001.

SYSTEM MANAGER AND ADDRESS:

Director, Office of Civil Rights, Room 7428, Department of State, 2201 C Street NW., Washington, DC 20520.

NOTIFICATION PROCEDURES:

Individuals who have cause to believe that the Office of Civil Rights might have records pertaining to them should write to the Director, Office of Information Programs and Services, Department of State, SA-2, 515 22nd Street NW., Washington, DC 20522-8001. The individual must specify that he/she wishes the Records Maintained by the Office of Civil Rights to be checked. At a minimum, the individual must include: Name; date and place of birth; current mailing address and zip code; signature; and the approximate date upon which the individual filed a formal or informal complaint alleging discrimination or requested other services from the Office of Civil Rights.

RECORD ACCESS AND AMENDMENT PROCEDURES:

Individuals who wish to gain access to or amend records pertaining to themselves should write to the Director, Office of Information Programs and Services (address above).

CONTESTING RECORD PROCEDURES:

(See above).

RECORD SOURCE CATEGORIES:

The individual; supervisors of the individual; EEO counselors; EEO personnel; and other employees or individuals having knowledge of the facts involved in the complaint.

SYSTEM EXEMPTED FROM CERTAIN PROVISION OF THE ACT:

Certain records contained within this system of records are exempted from 5 U.S.C. 552a(k)(5) and (k)(6). See 22 CFR part 171.

[FR Doc. 2015-17226 Filed 7-13-15; 8:45 am]

BILLING CODE 4710-10-P